DEPARTMENT OF EDUCATION

[CFDA No. 84.926B]

Office of Elementary and Secondary Education—Arts in Education Competitive Grant Program; Notice Inviting Applications for New Awards for Fiscal Year (FY) 2000

Purpose of Program

The goal of this grant competition is to provide assistance to local educational agencies (LEAs) on behalf of eligible schools to support media literacy projects. “Media literacy” refers to the ability to understand and interpret the artistic content of images, including violent messages, transmitted through the electronic media.

SUPPLEMENTARY INFORMATION:

Background

Many studies have explored the relationship between children's viewing of violence through the media and their engaging in violent behavior. While there is little consensus among these studies regarding the impact that the electronic media have on youth violence, the Secretary believes that instruction that helps young people to critically analyze media messages about violence can help to prevent youth violence. Accordingly, this grant competition focuses on media literacy projects that include opportunities for youth to engage in non-violent, innovative arts programming. These projects will support model partnerships between schools and arts-based organizations to demonstrate new methods of improving the interpretive and creative skills of young people in dealing with the media arts. Young people will learn how to interpret the messages they receive on a daily basis through the media, and also how to engage in the creative process in developing better alternatives to media programming that include violent content.

Today's students—tomorrow's citizens and leaders in our democracy—will need a different set of understandings and skills in communications if they are to succeed in the global society and economy that are fueled by new media technologies. CD-ROMs, video games, music videos, interactive communications facilitated by personal computers, and the World Wide Web, as well as such older electronic media as television shows, movies, and recorded music, command an increasing amount of the attention and time of our children. We must help them learn to “read” and evaluate images as well as text. These technologies can be used to create and communicate ideas that portray alternatives to violence, drug use, and disrespect.

Eligible Applicants: LEAs with one or more schools where 75 percent or more of the children are from low-income families, based on the poverty criteria described in Title I Section 1113(a)(5) of the Elementary and Secondary Education Act. Applicants must submit evidence of their eligibility. For this purpose applicants may submit records kept for the purpose of Title I of the Elementary and Secondary Education Act that demonstrates that proof of eligibility.

Note: Potential applicants are reminded that, under the absolute priority published elsewhere in this notice, the Secretary will only fund under this competition media literacy projects in schools where the number of children from low-income families equals or exceeds 75 percent.

Applications Available: May 22, 2000.

Deadline for Transmittal of Application: July 21, 2000.

Deadline for Intergovernmental Review: August 21, 2000.

Estimated Available Funds: $990,000.

Estimated Range of Awards: $50,000 to $150,000.

Estimated Average Size of Awards: $100,000.

Estimated Number of Awards: 8-10.

Project Period: Up to 36 months.

Note: The Department is not bound by any estimates in this notice. Funding estimates are for the first year of the project period only. Funding for the second and third years is subject to the availability of funds and the approval of continuation awards (34 CFR 75.253).

Applicable Regulations: The Education Department General Administrative Regulations (EDGAR) in 34 CFR Parts 75, 77, 79, 80, 81, 82, 85, 86, 97, 98, and 99.

Priority: Absolute Priority: The Secretary gives absolute priority to media literacy projects, implemented in schools where the number of children from low-income families equals or exceeds 75 percent, that are designed both to: (1) enable students in those schools to critically interpret and analyze the images, including violent messages, transmitted through the electronic media, and (2) help students in those schools to create their own media-based arts projects presenting alternative non-violent messages through the use of film, video, hypermedia, website design and other contemporary communications media. Applicants should clearly state in the abstract how their application addresses both elements of this priority. Only projects that meet both elements of this priority will be considered for funding.

Selection Criteria: The Secretary uses the selection criteria published in 34 CFR 75.209 and 75.210 to evaluate applications for the Arts in Education Competitive Grant Program. The application package includes the selection criteria and the points assigned to each criterion.

Waiver of Proposed Rulemaking: It is the Secretary's practice, in accordance with the Administrative Procedure Act (5 U.S.C. 553) to offer interested parties the opportunity to comment on proposed rules. Section 437(d)(1) of the General Education Provisions Act (GEPA), however, exempts from this requirement rules that apply to the first competition under a new or substantially revised program. Funding was provided for this new initiative in the fiscal year 2000 appropriations act enacted in October 1999. The Secretary, in accordance with section 437(d)(1) of GEPA, has decided to forego public comment in order to ensure timely grant awards.

For Further Information or Applications: Shelton Allen, U.S. Department of Education, 400 Maryland Avenue, SW, FOB6, Room 3C126, Washington, DC 20202-6140. Telephone: (202) 260-2487 or fax: (202) 205-5630. The e-mail address for Mr. Allen is: shelton—allen@ed.gov

If you use a telecommunications device for the deaf (TDD), you may call the Federal Information Relay Service (FIRS) at 1-888-877-8339.

Individuals with disabilities may obtain this document in an alternative format (e.g., Braille, large print, audiotape, or computer diskette) on request to the contact person listed in the preceding paragraph. Individuals with disabilities may obtain a copy of the application package in an alternate format, also, by contacting that person. However, the Department is not able to reproduce in an alternate format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 8091.

Dated: May 16, 2000.
Michael Cohen,
Assistant Secretary for Elementary and Secondary Education.

[FR Doc. 00-12760 Filed 5-19-00; 8:45 am]

BILLING CODE 4000-01-P